DEPARTMENT OF THE INTERIOR

Bureau of Indian Affairs

Information Collection Submitted to the Office of Management and Budget for Review Under the Paperwork Reduction Act

SUMMARY: The proposal for renewal of the collection of information listed below has been submitted to the Office of Management and Budget for approval under the provisions of Paperwork Reduction Act (44 U.S.C. Chapter 25).

DATES: Comments and suggestions on the renewal must be received by December 4, 2000.

ADDRESSES: Copies of the proposed collection of information and related forms may be obtained by contacting the Division of Real Estate Services as listed in the FOR FURTHER INFORMATION CONTACT section of this notice. Comments and suggestions should be made directly to the Desk Officer for the Department of the Interior at the Office of Management and Budget, Washington, DC 20503.

FOR FURTHER INFORMATION CONTACT: Larry E. Scrivner or Helen R. Latall, Bureau of Indian Affairs, Division of Real Estate Services, MS-4510/MIB, 1849 C Street, NW., Washington, DC 20240, telephone (202) 208-7737.

SUPPLEMENTARY INFORMATION: The Secretary of the Interior has statutory authority to acquire lands in trust status for individual Indians and Federally recognized Indian tribes. The Secretary requests information in order to identify the party(ies) involved and describe the land in question. Respondents are Native American tribes or individuals who request real property acquisition for trust status. The Secretary also requests additional information necessary to satisfy those pertinent factors listed in 25 CFR 151.10 or 151.11. The information is used to determine whether or not the Secretary will approve an applicant request. No specific form is used, but respondents supply information and data so that the Secretary may make an evaluation and determination in accordance with established Federal factors, rules and policies.

Title: Land Acquisitions.

OMB approval number: 1076-0100.

Frequency: As needed.

Description of respondents: Native American tribes or individuals who request real property acquisition for trust status.

Nature of response: Required for a benefit.

Estimated completion time: 4 hours.

Annual responses: 9,200.

Annual Burden hours: 36,800.

You are asked to comment on whether it is necessary for the proper performance of agency functions; it reduces burden on small entities; it uses plain, coherent, and unambiguous terminology that is understandable to respondents; its implementation will be consistent and compatible with current reporting and recordkeeping practices; why the information is being collected and how it will be used.

Note: Comments, names and addresses of commentors are available for public review during regular business hours. If you wish us to withhold this information, you must state this prominently at the beginning of your comment. We will honor your request to the extent allowable by law. In compliance with the Paperwork Reduction Act of 1995, as amended, the collection has been reviewed by the Office of Management and Budget and assigned a number and expiration date. The number and expiration date are at the top right corner of a form. Please note that an agency may not conduct or sponsor, and a person is not required to respond to, a collection of information unless there is a valid OMB clearance number.

Dated: October 30, 2000.
Kevin Gover,
Assistant Secretary—Indian Affairs.

[FR Doc. 00-28284 Filed 11-2-00; 8:45 am]

BILLING CODE 4310-02-P